FEDERAL COMMUNICATIONS COMMISSION

47 CFR Part 1

[CS Docket No. 97-151; FCC 98-20]

Pole Attachment Complaint Procedures

AGENCY: Federal Communications Commission.

ACTION: Final rule; announcement of effective date.

SUMMARY: This document announces the approval of the Office of Management and Budget (OMB) for information collection requirements in the sections of regulations concerning pole attachments outlined in the DATES section.

DATES: Effective August 27, 2013, the amendments to §§ 1.1403(e) and 1.1404 published at 63 FR 12025, March 12, 1998,have been approved by OMB.

FOR FURTHER INFORMATION CONTACT: Michele Levy Berlove, Competition Policy Division, Wireline Competition Bureau at Michele.Berlove@fcc.gov.

SUPPLEMENTARY INFORMATION: On June 22, 1998, OMB approved the information collection requirements contained in sections 1.1403(e) and 1.1404 of the Code of Federal Regulations as a revision to OMB Control Number 3060-0392.

On January 24, 2001, OMB approved the information collection requirements contained in sections 1.1404(g), 1.1404(h) and 1.1404(j) of Title 47 of the Code of Federal Regulations as a revision to OMB Control Number 3060-0392.

These information collection requirements required OMB approval to become effective. The Commission publishes this document as an announcement of those approvals. If you have any comments on the burden estimates listed below, or how the Commission can improve the collections and reduce any burdens caused thereby, please contact Thomas Butler, Federal Communications Commission, Room 5-C458, 445 12th Street SW., Washington, DC 20554. Please include the OMB Control Number 3060-0392 in your correspondence. The Commission will also accept your comments via the Internet if you send them to PRA@fcc.gov.

To request materials in accessible formats for people with disabilities (Braille, large print, electronic files, audio format), send an email to fcc504@fcc.gov or call the Consumer & Governmental Affairs Bureau at (202) 418-0530 (voice, (202) 419-0432 (TTY)).

Synopsis: As required by the Paperwork Reduction Act of 1995 (44 U.S.C. 3507), the FCC is notifying the public that it received OMB approval for the information collection requirements described above. The OMB Control Number is 3060-0392. The total annual reporting burden for respondents for these collections of information, including the time for gathering and maintaining the collection of information, has been most recently approved to be:

For 3060-0392: 1,772 responses, for a total of 2,629 hours, and $450,000 in annual costs.

An agency may not conduct or sponsor a collection of information unless it displays a current valid OMB Control Number. No person shall be subject to any penalty for failing to comply with a collection of information subject to the Paperwork Reduction Act, which does not display a current, valid OMB Control Number. The foregoing notice is required by the Paperwork Reduction Act of 1995, Public Law 104-13, October 1, 1995, and 44 U.S.C. 3507.

Federal Communications Commission.
Gloria J. Miles,
Federal Register Liaison.

[FR Doc. 2013-20672 Filed 8-26-13; 8:45 am]

BILLING CODE 6712-01-P